ENVIRONMENTAL PROTECTION AGENCY

[ER-FRL-6670-02]

Environmental Impact Statements and Regulations; Availability of EPA Comments

Availability of EPA comments prepared pursuant to the Environmental Review Process (EDP), under section 309 of the Clean Air Act and section 102(2)(c) of the National Environmental Policy Act as amended. Requests for copies of EPA comments can be directed to the Office of Federal Activities at (202) 564-7167.

An explanation of the ratings assigned to draft environmental impact statements (EISs) was published in FR dated May 18, 2001 (97 FR 27647).

Draft EISs

EIS No. 20050348, EDP No. D-NPS-L65492-WA, Bey's Landing National Historical Reserve General Management Plan, Implementation, Town of Coupeville, Island County, WA.

Summary: EPA does not object to the proposed project; however, EPA did request clarification of future environmental monitoring activities. Rating LO.

EIS No. 20050382, EDP No. D-BIA-F60008-WI, Menominee Casino-Hotel 223-Acre Fee-to-Trust Transfer and Casino Project, Implementation, Federal Trust, Menominee Indian Tribe of Wisconsin (Tribe), in City of Kenosha and County of Kenosha, WI.

Summary: EPA expressed environmental concerns about general conformity, energy and water conservation, and cumulative impacts analysis. Rating EC2.

EIS No. 20050406, EDP No. D-FHW-L40228-WA, South Park Bridge Project, Proposes to Rehabilitate or Replace the Historic South Park Ridge over the Duwamish Waterway at 14th/16 Avenue S, U.S. Coast Guard Permit and U.S. Army COE Section 10 and 404 Permits, King County, WA.

Summary: EPA expressed environmental concerns about water quality, hazardous waste, and environmental justice impacts related to the project, and requested additional information in the final EIS. Rating EC1.

EIS No. 20050421, EDP No. D-HUD-C85046-NY, Ashburton Avenue Master Plan and Urban Renewal Plan/Mulford Hope VI Revitalization Plan, Development, Implementation, Yonkers City, Westchester County, NY.

Summary: EPA expressed environmental concerns about air quality impacts and the need for a General Conformity Determination. Rating EC2.

EIS No. 20050445, EDP No. D-NPS-J61108-SD, Badlands National Park/North Unit General Management Plan, Implementation, Jackson, Pennington and Shannon Counties, SD.

Summary: EPA expressed environmental concerns about potential air quality, riparian and other water resources, and wildlife habitat impacts, and recommended further evaluation of these impacts, including a discussion of potential mitigation measures, be included in the Final EIS. Rating EC2.

Final EISs

EIS No. 20050443, ERP No. F-FHW-H40182-00, US-159 Missouri River Crossing Project, Rehabilitation or Replacement of the Missouri River Bridge at Rulo, Funding and U.S. Army COE Section 404 Permit, Richardson County, NE and Holt County, MO.

Summary: EPA does not object to the proposed project and appreciates the additional coordination afforded to 4(f) properties, as well as the inclusion of Traffic System Management/Travel Demand Management in combination with the preferred alternative.

EIS No. 20050458, ERP No. F-AFS-J65450-SD, Deerfield Project Area, Proposes to Implement Multiple Resource Management Actions, Mystic Ranger District, Black Hills National Forest, Pennington County, SD.

Summary: EPA remains concerned about water quality impacts from additional runoff and related erosion and sediment losses. In addition, EPA continues to express environmental concerns about cumulative impacts to soils, water quality, aquatic resources, and fish and wildlife habitats and populations.

Dated: December 6, 2006.
Robert W. Hargrove,
Director, NEPA Compliance Division, Office of Federal Activities.

[FR Doc. E5-7121 Filed 12-8-05; 8:45 am]

BILLING CODE 6560-50-P